FEDERAL COMMUNICATIONS COMMISSION

47 CFR Part 73

[DA 01-2386, MM Docket No. 01-160, RM-10159]

Digital Television Broadcast Service; Albuquerque, NM

AGENCY: Federal Communications Commission.

ACTION: Final rule.

SUMMARY: The Commission, at the request of ACME Television Licenses of New Mexico, LLC, substitutes DTV channel 45 for DTV channel 51c at Albuquerque, New Mexico. See 66 FR 40174, August 2, 2001. DTV channel 45 can be allotted to Albuquerque, New Mexico, in compliance with the principle community coverage requirements of Section 73.625(a) at reference coordinates (35-12-48 N. and 106-27-00 W.) with a power of 245, HAAT of 1287 meters and with a DTV service population of 759 thousand. With this action, this proceeding is terminated.

DATES: Effective December 3, 2001.

FOR FURTHER INFORMATION CONTACT: Pam Blumenthal, Mass Media Bureau, (202) 418-1600.

SUPPLEMENTARY INFORMATION: This is a synopsis of the Commission's Report and Order, MM Docket No. 01-160 , adopted October 12, 2001, and released October 18, 2001. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone 202-863-2893, facsimile 202-863-2898, or via e-mail qualexint@aol.com.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, 336.

§ 73.622 [Amended]

2. Section 73.622(b), the Table of Digital Television Allotments under New Mexico, is amended by removing DTV channel 51c and adding DTV channel 45 at Albuquerque.

Federal Communications Commission.
Barbara A. Kreisman,
Chief, Video Services Division, Mass Media Bureau.

[FR Doc. 01-26752 Filed 10-24-01; 8:45 am]

BILLING CODE 6712-01-P